DEPARTMENT OF TRANSPORTATION

Federal Aviation Administration

14 CFR Part 71

[Docket No. FAA-2005-20449; Airspace Docket No. 05-AAL-06]

Revision of Class E Airspace; Nome, AK

AGENCY: Federal Aviation Administration (FAA), DOT.

ACTION: Final rule; correction.

SUMMARY: This action corrects an error in the airspace description contained in a Final Rule that was published in the Federal Register on Monday, May 2, 2005 (70 FR 22590). Airspace Docket No. 05-AAL-06.

DATES: Effective June 8, 2005.

FOR FURTHER INFORMATION CONTACT: Jesse Patterson, AAL-538G, Federal Aviation Administration, 222 West 7th Avenue, Box 14, Anchorage, AK 99513-7587; telephone number (907) 271-5898; fax: (907) 271-2850; email: Jesse.CTR.Patterson@faa.gov. Internet address: http://www.alaska.faa.gov/at.

SUPPLEMENTARY INFORMATION:

History

Federal Register Document 05-8723, Airspace Docket No. 05-AAL-06, published on Monday, May 2, 2005 (70 FR 22590), revised the Class E airspace at Nome, AK. An error was discovered in the airspace description that indicated the Class E airspace designated as surface area was effective during specific dates and times. This statement was inaccurate. The Class E airspace designated as surface area is effective continuously. This action corrects that error.

Correction to Final Rule

Accordingly, pursuant to the authority delegated to me, the airspace description of the Class E airspace designated as surface area published in the Federal Register, Monday, May 2, 2005 (70 FR 22590), (FR Doc 05-8723; page 22590, column 3) is corrected as follows:

§ 71.1 [Corrected]

* * * * *

AAL AK E2 NOME, AK [Corrected]

By removing, “This Class E airspace area is effective during the specific dates and times established in advance by a Notice to Airmen. The effective date and time will thereafter be continuously published in the Airport/Facility Directory.”

Issued in Anchorage, AK, on May 27, 2005.
Anthony M. Wylie,
Acting Area Director, Alaska Flight Services Area Office.

[FR Doc. 05-11325 Filed 6-7-05; 8:45 am]

BILLING CODE 4910-13-P